DEPARTMENT OF THE INTERIOR

Bureau of Land Management

[19X 1109AF LLUT930000 Ll6100000.DQ0000.LXSSJ0650000]

Notice of Availability of the Bears Ears National Monument Indian Creek and Shash Jáa Units Proposed Monument Management Plans and Final Environmental Impact Statement, Utah

AGENCY: Bureau of Land Management, Interior.

ACTION: Notice of availability.

SUMMARY: In accordance with the National Environmental Policy Act of 1969, as amended, and the Federal Land Policy and Management Act of 1976, as amended, the Bureau of Land Management (BLM) Canyon Country District Office, in coordination with the United States Forest Service (USFS), Manti-La Sal National Forest, has prepared the Proposed Monument Management Plans (MMPs) and Final Environmental Impact Statement (EIS) for the Bears Ears National Monument (BENM) Indian Creek and Shash Jáa Units and by this notice is announcing its availability and the opening of a protest period concerning the Proposed MMPs. In accordance with the John D. Dingell, Jr. Conservation, Management, and Recreation Act of 2019, this notice also announces the opening of a 60-day public comment period regarding the proposed closure of recreational target shooting (referred to as “target shooting” in the MMPs) at campgrounds, developed recreation sites, petroglyph sites, and structural cultural sites within the Bears Ears National Monument.

DATES: The BLM planning regulations state that any person who meets the conditions as described in the regulations may protest the BLM's Proposed MMPs and Final EIS. A person who meets the conditions and files a protest must file the protest within 30 days of the date that the Environmental Protection Agency publishes its Notice of Availability in the Federal Register.

To ensure that comments on the proposed target shooting closure will be considered, the BLM must receive written comments within September 24, 2019.

ADDRESSES: The Proposed MMPs and Final EIS is available on the BLM ePlanning project website at https://goo.gl/uLrEae. Click the Documents and Report link on the left side of the screen to find the electronic versions of these materials. Hard copies of the Proposed MMPs and Final EIS are available for public inspection at the Canyon Country District Office.

Instructions for filing a protest with the Director of the BLM regarding the Proposed MMPs may be found online at https://www.blm.gov/filing-a-plan-protest and at 43 CFR 1610.5-2.

You may submit comments on the proposed target shooting closure using either of the following methods:

Email: blm_ut_monticello_monuments@blm.gov.

Mail: BLM, Canyon Country District Office, 82 East Dogwood, Moab, Utah 84532, Attn: Lance Porter.

FOR FURTHER INFORMATION CONTACT: Lance Porter, District Manager, at BLM Canyon Country District Office, 82 East Dogwood, Moab, UT 84532; by telephone, 435-259-2100; or by email, l50porte@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: On December 4, 2017, President Donald J. Trump signed Proclamation 9681 modifying the Bears Ears National Monument designated by Proclamation 9558 to exclude from its designation and reservation approximately 1,150,860 acres of land. The revised BENM boundary includes two units—Shash Jáa and Indian Creek Units—that are reserved for the care and management of the objects of historic and scientific interest within their boundaries. The planning area is located entirely in San Juan County, Utah, and encompasses 169,289 acres of BLM managed lands and 32,587 acres of National Forest System Lands. All of the National Forest System Lands are within the Shash Jáa Unit.

The BLM is the lead agency for the preparation of the EIS, and the U.S. Forest Service (USFS) is participating as a cooperating agency.

The planning effort is needed to identify goals, objectives, and management actions necessary for the proper care and management of the Monument objects and values identified in Proclamations 9558, as modified by Proclamation 9681. The BENM is jointly administered by the BLM and USFS under the Monticello Resource Management Plan (BLM 2008), as amended, and the Manti-La Sal Land and Resource Management Plan (LRMP), as amended (USFS 1986).

Each agency will continue to manage their lands within the Monument pursuant to their respective applicable legal authorities. The responsible official for the BLM is the Utah State Director; the responsible official for the USFS is the Manti-La Sal Forest Supervisor. These MMPs would amend the existing Monticello Resource Management Plan (RMP) to remove the BENM from the Monticello RMP decision area, and would replace the management from the Monticello RMP for the BLM-administered lands within the Monument. The USFS would use the information in the MMPs/EIS to amend the existing Manti-La Sal LRMP to guide future management of USFS-administered lands within the BENM. The USFS will use the BLM's administrative review procedures, as provided by the USFS 2012 Planning Rule, at 36 CFR 219.59(b).

The BLM and USFS have reviewed public scoping comments to identify planning issues that directed the formulation of alternatives and framed the scope of analysis in the Draft MMPs/EIS. Issues identified include management of cultural resources, including protection of American Indian sacred sites, traditional cultural properties, and access by members of Indian tribes for traditional cultural and customary uses; recreation and access; livestock grazing; and wildlife, water, vegetation, and soil resources. This planning effort also considers the management of lands with wilderness characteristics.

The formal public scoping process for the MMPs and EIS began on January 16, 2018, with the publication of a Notice of Intent in the Federal Register (83 FR 2181) and ended on April 11, 2018. The BLM held public scoping meetings in Blanding and Bluff, Utah, in March 2018. The Notice of Availability for the Draft MMPs/EIS was published on August 17, 2018 (83FR 41111), and the BLM accepted public comments on the range of alternatives, effects analysis and draft MMPs for 90 days, ending on November 15, 2018. During the public comment period, the BLM and USFS hosted public meetings in Blanding, Bluff, and Montezuma Creek, Utah.

The Draft MMPs/EIS evaluated four alternatives in detail. Alternative A is the No Action alternative, which is a continuation of existing decisions in the Monticello RMP, as amended, and the Manti-La Sal Forest Plan, as amended, to the extent that those decisions are compatible with the proclamations. Alternative B emphasizes resource protection and conservation. This alternative imposes the greatest restrictions on recreation and other uses to ensure the proper care and management of objects and values. Alternative C represents a balance among levels of restriction on recreation and other uses and emphasizes adaptive management to protect the long-term sustainability of Monument objects and values while providing for other multiple uses. Alternative D applies the least restrictive management prescriptions and allows for more discretion for multiple uses and review of proposed actions on a case-by-case basis. Comments on the Draft MMPs/EIS received from the public, the Bears Ears Monument Advisory Committee, cooperating agencies and tribes, and internal BLM review were considered and incorporated as appropriate into the Proposed MMPs/Final EIS. Public comments resulted in the addition of clarifying text, but did not significantly change the range of alternatives considered. Alternative E was developed in response to comments received on the Draft MMPs/EIS and includes elements of Alternatives A, B, C, and D. Alternatives B, C, D, and E were developed using input from the public, stakeholders, and cooperating agencies. The BLM and USFS have identified Alternative E as the agencies' Proposed MMPs. Identification of this alternative, however, does not represent final agency direction.

In the Proposed MMPs, the BLM proposes that recreational target shooting (referred to as “target shooting” in the MMPs) shall not be allowed on certain lands managed by the BLM in both the Indian Creek and Shash Jáa units of BENM. As proposed, target shooting would generally be allowed, but would be prohibited at campgrounds, developed recreation sites, petroglyph sites, and structural cultural sites. The proposed closure would help protect the cultural objects and values for which the BENM was designated, and provide for public safety at campgrounds and developed recreation sites. The proposed closure would ensure that irreplaceable petroglyphs and structural cultural sites would not inadvertently, or purposefully, be damaged by target shooting activities in the Monument. In addition, the proposed closure would enhance the safety of the public visiting campgrounds and developed recreation sites in the BENM, which would improve their experience. The proposed closure does not apply to the USFS-managed land in the BENM.

In accordance with John D. Dingell, Jr. Conservation, Management, and Recreation Act of 2019 (Dingell Act, Pub. L. 116-9, Section 4103), the BLM is announcing the opening of a 60-day public comment period on the proposed target shooting closure. As such, the BLM is only accepting comments on the proposed target shooting closure. All comments must be received by the date set forth in the DATES section earlier and must be submitted using one of the methods listed in the ADDRESSES section earlier. All protests must be in writing and submitted, as set forth in the DATES and ADDRESSES sections earlier.

The BLM Director will render a written decision on each protest. The decision will be mailed to the protesting party. The decision of the BLM Director shall be the final decision of the Department of the Interior on each protest. Responses to protest issues will be compiled and formalized in a Director's Protest Resolution Report made available following issuance of the decisions.

Upon resolution of all protests, the BLM and USFS will issue Records of Decision and Approved MMPs (BLM), and an approved LRMP (USFS). Before including your address, phone number, email address, or other personal identifying information in your protest, please be aware that your entire protest—including your personal identifying information—may be made publicly available at any time. While you can ask us in your comment to withhold your personal identifying information from public review, we cannot guarantee that we will be able to do so.

Authority: 40 CFR 1506.6 40 CFR 1506.10 43 CFR 1610.2 and 36 CFR 219.59.

Edwin L. Roberson,
State Director.

[FR Doc. 2019-15905 Filed 7-25-19; 8:45 am]

BILLING CODE 4310-DQ-P